Title 3—

The President

Proclamation 9147 of July 18, 2014

Captive Nations Week, 2014

By the President of the United States of America

A Proclamation

As the grip of the Cold War tightened, America pledged our solidarity to every nation held captive behind the Iron Curtain and every individual who refused to accept that fate. We stood with them through a long twilight struggle until—from Europe to South America to Southeast Asia—democracy took root, a wall tumbled down, and people who had known only the blinders of fear began to taste the blessings of freedom. During Captive Nations Week, we celebrate this progress and stand with all who still seek to throw off their oppressors and embrace a brighter day.

In recent years, convulsions in the Middle East and North Africa have laid bare deep divisions within societies. Dictators have answered peaceful movements with brutality. Extremists have tried to hijack change, seeking to replace one form of tyranny with another. And around the world, authoritarian regimes continue to deprive men, women, and children of their most basic human rights.

America extends our support to all peoples seeking to build true democracy, real prosperity, and lasting security. While the road to self-determination is long and treacherous, history proves it is passable. This week, as we carry forward that age-old struggle—of liberty against oppression, of unity against intolerance—let us once again demonstrate the enduring strength of our ideals.

The Congress, by joint resolution approved July 17, 1959 (73 Stat. 212), has authorized and requested the President to issue a proclamation designating the third week of July of each year as “Captive Nations Week.”

NOW, THEREFORE, I, BARACK OBAMA, President of the United States of America, do hereby proclaim July 20 through July 26, 2014, as Captive Nations Week. I call upon the people of the United States to reaffirm our deep ties to all governments and people committed to freedom, dignity, and opportunity for all.

IN WITNESS WHEREOF, I have hereunto set my hand this eighteenth day of July, in the year of our Lord two thousand fourteen, and of the Independence of the United States of America the two hundred and thirty-ninth.

[FR Doc. 2014-17520

Filed 7-22-14; 11:15 am]

Billing code 3295-F4